DEPARTMENT OF AGRICULTURE

Forest Service

Newspapers Used for Publication of Legal Notice of Appealable Decisions for the Intermountain Region; Utah, Idaho, Nevada, and Wyoming

AGENCY: Forest Service, USDA.

ACTION: Notice.

SUMMARY: This notice lists the newspaper that will be used by all ranger district, forests, and the Regional Office of the Intermountain Region to publish legal notice of all decisions subject to appeal under 36 CFR Part 215 and 36 CFR Part 217. The intended effect of this action is to inform interested members of the public which newspaper will be used to publish legal notices of decisions, thereby allowing them to receive constructive notice of a decision, to provide clear evidence of timely notice, and to achieve consistency in administering the appeals process.

DATES: Publication of legal notices in the listed newspaper will begin with decisions subject to appeal that are made on or after December 1, 2000. The list of newspaper will remain in effect until June 1, 2001, when another notice will be published in the Federal Register

FOR FURTHER INFORMATION CONTACT: Barbara Schuster, Regional Appeals Manager, Intermountain Region, 324 25th Street, Ogden, UT 84401, and Phone (801) 625-5301.

SUPPLEMENTARY INFORMATION: The administrative appeal procedures 36 CFR part 215 and 36 CFR part 217, of the Forest Service require publication of legal notice in a newspaper of general circulation of all decisions subject to appeal. This newspaper publication of notices of decisions is in addition to direct notice to those who have requested notice in writing and to those known to be interested and affected by a specific decision.

The legal notice is to identify: the decision by title and subject matter; the date of the decision; the name and title of the official making the decision; and how to obtain copies of the decision. In addition, the notice is to state the date the appeal period begins which is the day following publication of the notice.

The timeframe for appeal shall be based on the date of publication of the notice in the first (principal) newspaper listed for each unit.

The newspaper to be used are as follows:

Regional Forester, Intermountain Region

For decisions made by the Regional Forester affecting National Forests in Idaho:

The Idaho Statesman, Boise, Idaho.

For decisions made by the Regional Forester affecting National Forests in Nevada:

The Reno Gazette-Journal, Reno, Nevada.

For decisions made by the Regional Forester affecting National Forests in Wyoming:

Casper Star-Tribune, Casper, Wyoming.

For decisions made by the Regional Forester affecting National Forests in Utah:

Salt Lake Tribune, Salt Lake City, Utah.

If the decision made by the Regional Forester affects all National Forests in the Intermountain Region, it will appear in:

Salt Lake Tribune, Salt Lake, Utah.

Ashley National Forest

Ashley Forest Supervisors decisions:

Vernal Express, Vernal, Utah.

Vernal District Ranger decisions:

Vernal Express, Vernal, Utah.

Flaming Gorge District Ranger for decisions affecting Wyoming:

Casper Star Tribune, Casper, Wyoming.

Flaming Gorge District Ranger for decisions affecting Utah:

Vernal Express, Vernal, Utah.

Roosevelt and Duchesne District Ranger decisions:

Uintah Basin Standard, Roosevelt, Utah.

Boise National Forest

Boise Forest Supervisor decisions:

The Idaho Statesman: Boise, Idaho.

Mountain Home District Ranger decisions:

The Idaho Statesman: Boise, Idaho.

Idaho City District Ranger decisions:

The Idaho Statesman, Boise, Idaho.

Cascade District Ranger decisions:

The Long Valley Advocate, Cascade, Idaho.

Lowman District Ranger decisions:

The Idaho World, Garden Valley, Idaho.

Emmett District Ranger decisions:

The Messenger-Index, Emmett, Idaho.

Bridger-Teton National Forest

Bridger-Teton Forest Supervisor decisions:

Casper Star-Tribune, Casper, Wyoming.

Jackson District Ranger decisions:

Casper Star-Tribune, Casper, Wyoming.

Buffalo District Ranger decisions:

Casper Star-Tribune, Casper, Wyoming.

Big Piney District Ranger decisions:

Casper Star-Tribune, Casper, Wyoming.

Pinedale District Ranger decisions:

Casper Star-Tribune, Casper, Wyoming.

Greys River District Ranger decisions:

Casper Star-Tribune, Casper, Wyoming.

Kemmerer District Ranger decisions:

Casper Star-Tribune, Casper, Wyoming.

Caribou-Targhee National Forest

Caribou-Targhee Forest Supervisor decisions for the Caribou portion:

Idaho State Journal, Pocatello, Idaho.

Soda Springs District Ranger decisions:

Idaho State Journal, Pocatello, Idaho.

Montpelier District Ranger decisions:

Idaho State Journal, Pocatello, Idaho.

Westside District Ranger decisions:

Idaho State Journal, Pocatello, Idaho.

Caribou-Targhee Forest Supervisor decisions for the Targhee Portion:

The Post Register, Idaho Falls, Idaho.

Dubois District Ranger decisions:

The Post Register, Idaho Falls, Idaho.

Island Park District Ranger decisions:

The Post Register, Idaho Falls, Idaho.

Ashton District Ranger decisions:

The Post Register, Idaho Falls, Idaho.

Palisades District Ranger decisions:

The Post Register, Idaho Falls, Idaho.

Teton Basin District Ranger decisions:

The Post Register, Idaho Falls, Idaho.

Dixie National Forest

Dixie Forest Supervisor decisions:

The Daily Spectrum, St. George, Utah.

Pine Valley District Ranger decisions:

The Daily Spectrum, St. George, Utah.

Cedar City District Ranger decisions:

The Daily Spectrum, St. George, Utah.

Powell District Ranger decisions:

The Daily Spectrum, St. George, Utah.

Escalante District Ranger decisions:

The Daily Spectrum, St. George, Utah.

Teasdale District Ranger decisions:

The Daily Spectrum, St. George, Utah.

Fishlake National Forest

Fishlake Forest Supervisor decisions:

Richfield Reaper, Richfield, Utah.

Loa District Ranger decisions:

Richfield Reaper, Richfield, Utah.

Richfield District Ranger decisions:

Richfield Reaper, Richfield, Utah.

Beaver District Ranger decision:

Richfield Reaper, Beaver, Utah.

Fillmore District Ranger decisions:

Richfield Reaper, Fillmore, Utah.

Humboldt-Toiyabe National Forests

Humboldt-Toiyabe Forest Supervisor decisions for the Humboldt portion:

Elko Daily Free Press, Elko, Nevada.

Humboldt-Toiyabe Forest Supervisor decisions for the Toiyabe portion:

Reno Gazette-Journal, Reno, Nevada.

Sierra Ecosystem Coordination Center (SECO):

Carson District Ranger decisions:

Mammoth Times, Mammoth Lakes, California.

Bridgeport District Ranger, decisions:

The Review-Herald, Mammoth Lakes, California.

Spring Mountain National Recreation Area Ecosystem (SMNRAE):

Spring Mountain National Recreation Area District Ranger decisions:

Las Vegas Review Journal, Las Vegas, Nevada.

Central Nevada Ecosystem (CNECO):

Austin District Ranger decisions:

Reno Gazette-Journal, Reno, Nevada.

Tonopah District Ranger decisions:

Tonopah Times Bonanza-Goldfield News, Tonopah, Nevada.

Ely District Ranger decisions:

Ely Daily Times, Ely, Nevada.

Northeast Nevada Ecosystem (NNECO):

Mountain City District Ranger decisions:

Elko Daily Free Press, Elko, Nevada.

Ruby Mountains District Ranger decisions:

Elko Daily Free Press, Elko, Nevada.

Jarbidge District Ranger decisions:

Elko Daily Free Press, Elko, Nevada.

Santa Rosa District Ranger decisions:

Humboldt Sun, Winnemucca, Nevada.

Manti-LaSal National Forest

Manti-LaSal Forest Supervisor decisions:

Sun Advocate, Price, Utah.

Sanpete District Ranger decisions:

The Pyramid, Mt. Pleasant, Utah.

Ferron District Ranger decisions:

Emery County Progress, Castle Dale, Utah.

Price District Ranger decisions:

Sun Advocate, Price, Utah.

Moab District Ranger decisions:

The Times Independent, Moab, Utah.

Monticello District Ranger decisions:

The San Juan Record, Monticello, Utah.

Payette National Forest

Payette Forest Supervisor decisions:

Idaho Statesman, Boise, Idaho.

Weiser District Ranger decisions:

Signal American, Weiser, Idaho.

Council District Ranger decisions:

Council Record, Council, Idaho.

New Meadows, McCall, and Krassel District Ranger decisions:

Star News, McCall, Idaho.

Salmon-Challis National Forests

Salmon-Challis Forest Supervisor decisions for the Salmon portion:

The Recorder-Herald, Salmon, Idaho.

Salmon-Challis Forest Supervisor decisions for the Challis portion:

The Challis Messenger, Challis, Idaho.

North Fork District Ranger decisions:

The Recorder-Herald, Salmon, Idaho.

Leadore District Ranger decisions:

The Recorder-Herald, Salmon, Idaho.

Salmon/Cobalt District Ranger decisions:

The Recorder-Herald, Salmon, Idaho.

Middle Fork District Ranger decisions:

The Challis Messenger, Challis, Idaho.

Challis District Ranger decisions:

The Challis Messenger, Challis, Idaho.

Yankee Fork District Ranger decisions:

The Challis Messenger, Challis, Idaho.

Lost River District Ranger decisions:

The Challis Messenger, Challis, Idaho.

Sawtooth National Forest

Sawtooth Forest Supervisor decisions:

The Times News, Twin Falls, Idaho.

Burley District Ranger decisions:

Ogden Standard Examiner, Ogden, Utah, for those decisions on the Burley District involving the Raft River Unit.

South Idaho Press, Burley, Idaho, for decisions issued on the Idaho portions of the Burley District.

Twin Falls District Ranger decisions:

The Times News, Twin Falls, Idaho.

Ketchum District Ranger decisions:

Idaho Mountain Express, Ketchum, Idaho.

Sawtooth National Recreation Area:

Challis Messenger, Challis, Idaho.

Fairfield District Ranger decisions:

The Times News, Twin Falls, Idaho.

Uinta National Forest

Uinta Forest Supervisor decisions:

The Daily Herald, Provo, Utah.

Pleasant Grove District Ranger decisions:

The Daily Herald, Provo, Utah.

Heber District Ranger decisions:

The Daily Herald, Provo, Utah, and

Spanish Fork District Ranger decisions:

The Daily Herald, Provo, Utah.

Wasatch-Cache National Forest

Wasatch-Cache Forest Supervisor decisions:

Salt Lake Tribune, Salt Lake City, Utah.

Salt Lake District Ranger decisions:

Salt Lake Tribune, Salt Lake City, Utah.

Kamas District Ranger decisions:

Salt Lake Tribune, Salt Lake City, Utah.

Evanston District Ranger decisions:

Uintah County Herald, Evanston, Wyoming.

Mountain View District Ranger decisions:

Uintah County Herald, Evanston, Wyoming.

Ogden District Ranger decisions:

Ogden Standard Examiner, Ogden, Utah.

Logan District Ranger decisions:

Logan Herald Journal, Logan, Utah.

Dated: May 31, 2001.
Jack A. Blackwell,
Regional Forester.

[FR Doc. 01-27096 Filed 10-29-01; 8:45 am]

BILLING CODE 3410-11-M